NATIONAL COUNCIL ON DISABILITY

Request for Information; Disability Clinical Care

AGENCY: National Council on Disability (NCD).

ACTION: Notice; request for information.

SUMMARY: NCD is requesting information to help inform a policy brief it will be publishing concerning the need for disability clinical care and competency training of medical professionals.

DATES: Electronic comments on the notice must be submitted by 11:59 EST on January 6, 2025.

ADDRESSES: You may submit comments and information via email to asoliman@ncd.gov. Please note that late, untimely filed comments will not be considered.

FOR FURTHER INFORMATION CONTACT: Amged Soliman, Senior Attorney Advisor, National Council on Disability, asoliman@ncd.gov.

SUPPLEMENTARY INFORMATION:

I. Background

The lack of comprehensive disability clinical-care education and disability competency training among medical, nursing and other healthcare professionals can perpetuate discrimination in healthcare against people with disabilities and significantly contributes to the disparate health outcomes of people with disabilities. Most Federally financed medical, nursing, healthcare professional, and allied health professional schools, as well as post-graduate residency and fellowship programs, do not incorporate disability clinical care into curricula or training. Consequently, physicians often lack the knowledge, experience, and skills to distinguish clinical concerns arising from disability from those related to other health conditions. One's apparent disability—even when unrelated to the reason for one's health care visit—can result in diagnostic overshadowing the clinical concern and can have negative impact during the health care visit. This lack of familiarity and understanding of disability is detrimental to quality of care, contributing to delays in diagnosis and treatment, unsafe care, and inequities in care.

Due to a lack of training and familiarity, people with disabilities are sometimes viewed as asexual.ⁱ These assumptions may contribute to the finding that women with disabilities undergo colon cancer screening at similar rates as their nondisabled peers, but experience disparities in breast cancer and cervical cancer screening.ⁱⁱ The sexual health of women with intellectual disabilities is particularly ignored in terms of screening for breast and cervical cancer.ⁱⁱⁱ An abundance of research indicates the lack of disability competency and interdisciplinary training among medical professionals contributes to the health disparities of people with disabilities across the nation.ⁱᵛ

ⁱ Milligan MS, Neufeldt AH. “The myth of asexuality: A survey of social and empirical evidence.” Sex Disabil. 2001;19(2):91-109. doi:10.1023/A:1010621705591.

ⁱⁱ Horner-Johnson W, Dobbertin K, Andresen EM, Iezzoni LI. Breast and cervical cancer screening disparities associated with disability severity. Womens Health Issues. 2014;24(1):e147-53. See also, Pharr JR, Bungum T. “Health disparities experienced by people with disabilities in the United States: A behavioral risk factor surveillance system study.” Glob J Health Sci. 2012;4(6):99-108. doi:10.5539/gjhs.v4n6p99. See also, Andresen EM, Peterson-Besse JJ, Krahn GL, Walsh ES, Horner-Johnson W, Iezzoni LI. “Pap, mammography, and clinical breast examination screening among women with disabilities: a systematic review.” Womens Health Issues. 2013;23(4):e205-14.

ⁱⁱⁱ Havercamp SM, Scott HM. “National health surveillance of adults with disabilities, adults with intellectual and developmental disabilities, and adults with no disabilities.” Disabil Health J. 2015;8(2):165-172. doi:10.1016/j.dhjo.2014.11.002.

ⁱᵛ Krahn et al. (2015). Persons with Disabilities as an Unrecognized Health Disparity Population, 105 Am. J. Pub. Health S198, S204 (“Every major report addressing the poor health of people with disabilities has called for improvements in training of health care providers about adults with disabilities.”).

While some medical schools in the US do provide disability competency training, the overwhelming majority do not. Standard, comprehensive disability clinical-care education and training of medical, nursing, and other healthcare professionals is essential for a better educated healthcare workforce trained with an understanding of disability as a natural part of the human condition versus conditions that must be avoided, prevented or fixed. Comprehensive disability clinical-care competency should be woven into the curricula requirements of all US undergraduate medical, nursing, healthcare professional, and allied health professional education, as well as postgraduate residency and fellowship programs that are conducted in over 1,100 teaching hospitals.

II. Issues for Consideration and Request for Information

With respect to the status of disability clinical care and competency training within the US, NCD invites comments based on the questions below. Please explain your answers and provide references and data, if possible.

1. What are the challenges and obstacles for schools within the US to adopt and incorporate an appropriate disability clinical care curriculum over the course of their students' training?

2. What is the connection between clinical confidence and changes in behavior and attitudes among healthcare providers?

3. What are the transferable skills that clinicians can learn from “disability competency training” to apply to all other patient populations (for instance people who are elderly, those with complex and chronic co-existing conditions, etc.)?

4. What are the existing curriculum resources that can be adopted and incorporated into current provider training?

5. What are examples of existing curriculum or standards of learning inclusive of disability clinical care/competency training that could be consulted for development of new required standards of learning across medical schools; and/or adopted wholesale as part of a program's education of medical professionals?

The information provided will be kept confidential and will not be attributed to specific individuals or organizations.

Disclaimer

This Request for Information is for information gathering purposes only and does not constitute a commitment by NCD to take any specific action based on the responses received.

Further, this Request for Information is not an invitation to apply for funding or a Request for Proposals.

Dated: November 25, 2025.
Anne Sommers McIntosh,
Director of Legislative Affairs and Outreach.

[FR Doc. 2025-21585 Filed 11-28-25; 8:45 am]

BILLING CODE 8421-02-P